NATIONAL AERONAUTICS AND SPACE ADMINISTRATION

[Notice: (19-008)]

Notice of Intent for a Supplemental Environmental Impact Statement for NASA Soil Cleanup Activities at the Santa Susana Field Laboratory

AGENCY: National Aeronautics and Space Administration (NASA).

ACTION: Notice of intent to prepare a Supplemental Environmental Impact Statement (SEIS) to the March 2014 Final Environmental Impact Statement (FEIS) for Demolition and Environmental Cleanup Activities for the NASA-administered portion of the Santa Susana Field Laboratory (SSFL), Ventura County, California. This SEIS will cover the soil cleanup activities at NASA's portion of SSFL.

SUMMARY: Pursuant to the National Environmental Policy Act (NEPA), as amended, the Council on Environmental Quality Regulations for Implementing the Procedural Provisions of NEPA, and NASA's NEPA policy and procedures, NASA intends to prepare an SEIS for soil cleanup activities at SSFL in Ventura County, California. An SEIS is being prepared because there are significant new circumstances relevant to environmental concerns bearing on the proposed action and its impacts. Specifically, the estimated quantity of soil required to be removed has increased substantially since the publication of the 2014 FEIS. This increase has the potential to alter the environmental impacts that were evaluated in the 2014 FEIS. For this reason, NASA has determined it is appropriate to prepare a supplement to the 2014 FEIS.

The purpose of this notice is to apprise interested agencies, organizations, tribal governments, and individuals of NASA's intent to prepare the SEIS.

FOR FURTHER INFORMATION CONTACT: Peter Zorba, SSFL Project Director, by email at msfc-ssfl-eis@mail.nasa.gov, 202-714-0496. Additional information about the SSFL site, NASA's demolition and proposed cleanup activities at SSFL, and the associated SEIS planning process and documentation (as available) may be found on the internet at https://ssfl.msfc.nasa.gov or on the California Department of Toxic Substances Control (DTSC) website at http://www.dtsc.ca.gov/SiteCleanup/Santa_Susana_Field_Lab/.

SUPPLEMENTARY INFORMATION: The SSFL site is 2,850 acres located in Ventura County, California, approximately seven miles northwest of Canoga Park and approximately 30 miles northwest of downtown Los Angeles. SSFL is located near the crest of the Simi Hills, which are part of the Santa Monica Mountains running east-west across Southern California. The diverse terrain consists of ridges, canyons, and sandstone rock outcrops. SSFL is composed of four administrative areas known as Areas I, II, III, and IV and two “undeveloped” areas. NASA administers 41.7 acres within Area I and all 409.5 acres of Area II. The Boeing Company (Boeing) owns the remaining 2,398.8 acres within Areas I, III, IV, and the two undeveloped areas. The Department of Energy (DOE) does not own any land at SSFL but is responsible for building demolition and cleanup of soils and groundwater in Area IV and the Northern Buffer Zone.

Since the mid-1950s, when SSFL was administered by the U.S. Air Force, this site has been used for developing and testing rocket engines. Four test stand complexes were constructed in Area II between 1954 and 1957 named Alfa, Bravo, Coca, and Delta. These test stand areas along with the Liquid Oxygen (LOX) Plant portion of Area I were acquired by NASA from the U.S. Air Force in the 1970s.

The NASA-administered areas of SSFL contain cultural resources associated with rocket engine development, along with several significant archeological sites. NASA has conducted several surveys to locate archeological and architectural resources within its administered portion of SSFL. NASA has identified the Burro Flats Site, which is listed on the National Register of Historic Places (NRHP), as well as various archeological sites, buildings, and structures that are either individually eligible for listing on the NRHP or are elements of NRHP-eligible historic districts containing multiple architectural resources. In 2014, NASA entered into a Programmatic Agreement with the California State Historic Preservation Officer, the Advisory Council for Historic Preservation, and the Santa Ynez Band of Chumash Indians. The Programmatic Agreement stipulates the cultural resource management measures that must be implemented before, during, and after all cleanup activities. Previous environmental sampling on the NASA-administered property indicates that contaminants are present in the soil and groundwater at the site.

Environmental Commitments and Associated Environmental Review: Rocket engine testing has been discontinued at these sites and the property has been excessed to the General Services Administration (GSA). GSA has conditionally accepted the Report of Excess pending certain environmental cleanup requirements are met.

In 2007, a Consent Order among NASA, Boeing, the U.S. Department of Energy, and DTSC was signed addressing demolition of certain infrastructure and environmental cleanup of SSFL. NASA entered into an Administrative Order on Consent (AOC) for Remedial Action with DTSC on December 6, 2010, “to further define and make more specific NASA's obligations with respect to the cleanup of soils at the Site.” Based on the 2010 Order, NASA is required to complete a federal environmental review pursuant to NEPA and NASA Procedural Requirement (NPR) 8580.1.

NASA published an FEIS for demolition of site infrastructure, soil cleanup pursuant to the AOC, and groundwater remediation within Area II and a portion of Area I (former LOX Plant) of SSFL on March 14, 2014 (79 FR 14545). NASA subsequently issued a Record of Decision (ROD) for building demolition on April 23, 2014. A ROD for groundwater cleanup was published in the Federal Register on October 19, 2018. A SEIS is being prepared by NASA for soil cleanup within Area II and a portion of Area I (former LOX Plant) of SSFL.

NASA anticipates that the potential environmental impacts of the soil cleanup of most interest to the public are likely public health; soil removal/erosion; soil transportation and disposal; threatened, endangered, and sensitive species; habitat and wetlands; cultural and historic resources; air quality and greenhouse gas emissions; and groundwater, surface water, or geologic structures.

During the SEIS process, the public will be provided an opportunity for involvement at the publication of the Draft SEIS. The Notice of Availability for the Draft SEIS, Final SEIS, and ROD will be published in the Federal Register and through local news media to ensure that all members of the public have the ability to actively participate in the NEPA process.

Cheryl E. Parker,
Federal Register Liaison Officer.

[FR Doc. 2019-06332 Filed 4-4-19; 8:45 am]

BILLING CODE 7510-13-P